DEPARTMENT OF THE INTERIOR

Bureau of Reclamation

[RR83550000, 212R5065C6, RX.59389832.1009676]

Quarterly Status Report of Water Service, Repayment, and Other Water-Related Contract Actions

AGENCY: Bureau of Reclamation, Interior.

ACTION: Notice of contract actions.

SUMMARY: Notice is hereby given of contractual actions that have been proposed to the Bureau of Reclamation (Reclamation) and are new, discontinued, or completed since the last publication of this notice. This notice is one of a variety of means used to inform the public about proposed contractual actions for capital recovery and management of project resources and facilities consistent with the Reclamation Project Act of 1939. Additional announcements of individual contract actions may be published in the Federal Register and in newspapers of general circulation in the areas determined by Reclamation to be affected by the proposed action.

ADDRESSES: The identity of the approving officer and other information pertaining to a specific contract proposal may be obtained by calling or writing the appropriate regional office at the address and telephone number given for each region in the SUPPLEMENTARY INFORMATION section of this notice.

FOR FURTHER INFORMATION CONTACT: Michelle Kelly, Reclamation Law Administration Division, Bureau of Reclamation, P.O. Box 25007, Denver, Colorado 80225-0007; mkelly@usbr.gov; telephone 303-445-2888.

SUPPLEMENTARY INFORMATION: Consistent with section 9(f) of the Reclamation Project Act of 1939, and the rules and regulations published in 52 FR 11954, April 13, 1987 (43 CFR 426.22), Reclamation will publish notice of proposed or amendatory contract actions for any contract for the delivery of project water for authorized uses in newspapers of general circulation in the affected area at least 60 days prior to contract execution. Announcements may be in the form of news releases, legal notices, official letters, memorandums, or other forms of written material. Meetings, workshops, and/or hearings may also be used, as appropriate, to provide local publicity. The public participation procedures do not apply to proposed contracts for the sale of surplus or interim irrigation water for a term of 1 year or less. Either of the contracting parties may invite the public to observe contract proceedings. All public participation procedures will be coordinated with those involved in complying with the National Environmental Policy Act. Pursuant to the “Final Revised Public Participation Procedures” for water resource-related contract negotiations, published in 47 FR 7763, February 22, 1982, a tabulation is provided of all proposed contractual actions in each of the five Reclamation regions. When contract negotiations are completed, and prior to execution, each proposed contract form must be approved by the Secretary of the Interior, or pursuant to delegated or redelegated authority, the Commissioner of Reclamation or one of the regional directors. In some instances, congressional review and approval of a report, water rate, or other terms and conditions of the contract may be involved.

Public participation in and receipt of comments on contract proposals will be facilitated by adherence to the following procedures:

1. Only persons authorized to act on behalf of the contracting entities may negotiate the terms and conditions of a specific contract proposal.

2. Advance notice of meetings or hearings will be furnished to those parties that have made a timely written request for such notice to the appropriate regional or project office of Reclamation.

3. Written correspondence regarding proposed contracts may be made available to the general public pursuant to the terms and procedures of the Freedom of Information Act, as amended.

4. Written comments on a proposed contract or contract action must be submitted to the appropriate regional officials at the locations and within the time limits set forth in the advance public notices.

5. All written comments received and testimony presented at any public hearings will be reviewed and summarized by the appropriate regional office for use by the contract approving authority.

6. Copies of specific proposed contracts may be obtained from the appropriate regional director or his or her designated public contact as they become available for review and comment.

7. In the event modifications are made in the form of a proposed contract, the appropriate regional director shall determine whether republication of the notice and/or extension of the comment period is necessary.

Factors considered in making such a determination shall include, but are not limited to, (i) the significance of the modification, and (ii) the degree of public interest which has been expressed over the course of the negotiations. At a minimum, the regional director will furnish revised contracts to all parties who requested the contract in response to the initial public notice.

Definitions of Abbreviations Used in the Reports

ARRA American Recovery and Reinvestment Act of 2009

BCP Boulder Canyon Project

Reclamation Bureau of Reclamation

CAP Central Arizona Project

CUP Central Utah Project

CVP Central Valley Project

CRSP Colorado River Storage Project

XM Extraordinary maintenance

EXM Emergency Extraordinary Maintenance

FR Federal Register

IDD Irrigation and Drainage District

ID Irrigation District

M&I Municipal and Industrial

O&M Operation and Maintenance

OM&R Operation, Maintenance, and Replacement

P-SMBP Pick-Sloan Missouri Basin Program

RRA Reclamation Reform Act of 1982

SOD Safety of Dams

SRPA Small Reclamation Projects Act of 1956

USACE U.S. Army Corps of Engineers

WD Water District

MISSOURI BASIN—INTERIOR REGION 5: Bureau of Reclamation, P.O. Box 36900, Federal Building, 2021 4th Avenue North, Billings, Montana 59101, telephone 406-247-7752.

1. Irrigation, M&I, and miscellaneous water users; Colorado, Kansas, Montana, Nebraska, North Dakota, Oklahoma, South Dakota, Texas, and Wyoming: Water service contracts for the sale, conveyance, storage, and exchange of surplus project water and non-project water for irrigation or M&I use to provide up to 10,000 acre-feet of water annually for a term of up to 1 year, or up to 1,000 acre-feet of water annually for a term of up to 40 years.

2. Water user entities responsible for payment of O&M costs for Reclamation projects in Colorado, Kansas, Montana, Nebraska, North Dakota, Oklahoma, South Dakota, Texas, and Wyoming: Contracts for XM and replacement funded pursuant to Title IX, Subtitle G of Public Law 111-11.

3. Green Mountain Reservoir, Colorado-Big Thompson Project, Colorado: Water service contracts for irrigation and M&I; contracts for the sale of water from the marketable yield to water users within the Colorado River Basin of western Colorado.

4. Garrison Diversion Conservancy District; Garrison Diversion Unit, P-SMBP; North Dakota: Intent to modify long-term water service contract to add additional irrigated acres.

5. Fryingpan-Arkansas Project, Colorado: Consideration of excess capacity contracting in the Fryingpan-Arkansas Project.

6. Colorado-Big Thompson Project, Colorado: Consideration of excess capacity contracting in the Colorado-Big Thompson Project.

7. Milk River Project, Montana: Proposed amendments to contracts to reflect current landownership.

8. Fresno Dam, Milk River Project, Montana: Consideration of contract(s) for repayment of SOD costs.

9. City of Casper; Kendrick Project, Wyoming: Consideration for renewal of long-term water service contract No. 2-07-70-W0534.

10. Lucerne Water and Sewer District, P-SMBP, Wyoming: Consideration for renewal of contract No. 1-07-60-WS091.

11. Lugert-Altus ID, W.C. Austin Project, Oklahoma: Consideration for amendment to contract No. Ilr-1375.

12. State of Kansas Department of Wildlife and Parks; Glen Elder Unit, P-SMBP; Kansas: Intent to enter into a contract for the remaining conservation storage in Waconda Lake for recreation and fish and wildlife purposes.

13. Arkansas Valley Conduit, Fryingpan-Arkansas Project, Colorado: Consideration of a repayment contract for the Arkansas Valley Conduit and signing a contract to use infrastructure owned by the Pueblo Board of Water Works.

14. Tom Green County Water Control and Improvement District No. 1, San Angelo Project, Texas: Consideration of a potential contract(s) for use of excess capacity by individual landowner(s) for irrigation purposes.

15. Canyon Ferry Water Users Association; Canyon Ferry Unit, P-SMBP; Montana: Consideration for a new long-term repayment contract.

16. Garrison Diversion Conservancy District; Garrison Diversion Unit, P-SMBP; North Dakota: Consideration of a contract for 165 cubic-feet-per-second of water for rural and M&I purposes.

17. Southeastern Colorado Water Conservancy District, Fryingpan-Arkansas Project, Colorado: Consideration for conversion of long-term water service contract No. 5-07-70-W0086.

18. Pueblo Board of Water Works, Fryingpan-Arkansas Project, Colorado: Consideration for renewal of contract No. 00XX6C0049.

19. Southeastern Colorado Water Conservancy District, Fryingpan-Arkansas Project, Colorado: Consideration of a repayment contract for the North Outlet Works—South Outlet Works Interconnect at Pueblo Reservoir.

20. Kansas Bostwick ID No. 2; Bostwick Division, P-SMBP; Kansas: Consideration of a contract for repayment of SOD costs.

21. Bostwick ID in Nebraska; Bostwick Division, P-SMBP; Nebraska: Consideration of a contract for repayment of SOD costs.

22. Midvale ID; Riverton Unit, P-SMBP; Wyoming: Consideration of a request for a new contract for the District to continue the O&M of the transferred works of the Riverton Unit.

23. Webster ID No. 4; Solomon Division, P-SMBP; Kansas: Consideration of a repayment contract for XM and replacement funded pursuant to Title IX, Subtitle G of Public Law 111-11.

24. P-SMBP; Montana, North Dakota, South Dakota, Wyoming, Nebraska, and Kansas: Renewal of contracts for the sale of Project Use Power to authorized entities.

25. Midvale ID; Riverton Unit, P-SMBP; Wyoming: Consideration of a new M&I water service contract.

26. XTO Energy, Inc.; Ruedi Reservoir, Fryingpan-Arkansas Project; Colorado: Consideration to amend Ruedi Round I contract No. 2-07-70-W055 for additional places of use, including the Piceance Creek Basin.

27. Pitkin County, Ruedi Reservoir, Fryingpan-Arkansas Project, Colorado: Consideration of excess capacity contract at Ruedi Reservoir.

28. Gering-Fort Laramie ID, North Platte Project, Wyoming and Nebraska: Consideration of a repayment contract for XM and replacement funded pursuant to Title IX, Subtitle G of Public Law 111-11.

29. Huntley ID, Huntley Project, Montana: Consideration of a repayment contract for XM and replacement funded pursuant to Title IX, Subtitle G of Public Law 111-11.

30. Griemsman L/S, LLC; Boysen Unit, P-SMBP; Wyoming: Consideration for renewal of water service contract No. 009E6A0012.

31. Glen Elder ID; Glen Elder Unit, P-SMBP; Kansas: Consideration of a repayment contract for XM funded pursuant to Title X, Subtitle G of Public Law 111-11.

32. H&RW ID; Frenchman-Cambridge Division, P-SMBP; Nebraska: Consideration for renewal of water service contract No. 5-07-70-W0738.

33. Buford-Trenton ID; Buford-Trenton Project, P-SMBP; North Dakota: Consideration to amend long-term irrigation power repayment contract and project-use power contract to include additional acres.

34. Mid-Dakota Rural Water System, Inc., South Dakota: Consideration to amend agreement No. 5-07-60-W0223 to reflect the payoff of loans.

35. Central Oklahoma Master Conservancy District, Norman Project, Oklahoma: Consideration for renewal of water service contract No. 169E640075.

36. Bluff ID; Boysen Unit, P-SMBP; Wyoming: Consideration of a new long-term water service contract for irrigation purposes.

37. Christine and Andrew Armstrong, Shoshone Project, Wyoming: Consideration for renewal of water service contract No. 19E6A0227B.

38. Ptarmigan Partners, LLC, Shoshone Project, Wyoming: Consideration for renewal of water service contract No. 19E6A0227A.

39. Garrison Diversion Conservancy District; Garrison Diversion Unit, P-SMBP; North Dakota: Consideration for conversion of irrigation water service contract No. 129E620001 to a repayment contract.

40. Sidney Water Users ID, P-SMBP, Montana: Consideration of contract for the sale of Project Use Power authorized under Section 2 of the Act of October 30, 2020 (Pub. L. 116-191).

41. Kinsey Irrigation Company, P-SMBP, Montana: Consideration of contract for the sale of Project Use Power authorized under Section 2 of the Act of October 30, 2020 (Pub. L. 116-191).

42. Triview Metropolitan District; Pueblo Reservoir, Fryingpan-Arkansas Project; Colorado: Consideration of a 40-year contract for excess capacity.

43. Title transfer agreements; Colorado, Kansas, Montana, Nebraska, North Dakota, Oklahoma, South Dakota, Texas, and Wyoming: Potential title transfers agreements pursuant to the John D. Dingell, Jr. Conservation, Management, and Recreation Act of March 12, 2019 (Pub. L. 116-9).

Completed Contract Actions

1. (12) Canyon Limited Liability; Boysen Unit, P-SMBP; Wyoming: Consideration for renewal of contract No. 009E6A0035. Contract executed on October 7, 2020.

2. (24) Dickey-Sargent ID; Garrison Diversion Unit, P-SMBP; North Dakota: Consideration of a repayment contract for irrigation storage in Jamestown Reservoir. Contract executed on December 4, 2020.

3. (36) Denise J. Evans, Shoshone Project, Wyoming, Consideration for renewal of contract 009E6A0045. Contract executed on November 19, 2020.

UPPER COLORADO BASIN—INTERIOR REGION 7: Bureau of Reclamation, 125 South State Street, Room 8100, Salt Lake City, Utah 84138-1102, telephone 801-524-3864.

1. Individual irrigators, M&I, and miscellaneous water users; Initial Units, CRSP; Utah, Wyoming, Colorado, and New Mexico: Temporary (interim) water service contracts for surplus project water for irrigation or M&I use to provide up to 10,000 acre-feet of water annually for terms up to 5 years; long-term contracts for similar service for up to 1,000 acre-feet of water annually.

2. Contracts with various water user entities responsible for payment of O&M costs for Reclamation projects in Arizona, Colorado, New Mexico, Texas, Utah, and Wyoming: Contracts for extraordinary maintenance and replacement funded pursuant to Title IX, Subtitle G of Public Law 111-11 to be executed as project progresses.

3. Middle Rio Grande Project, New Mexico: Reclamation continues annual leasing of water from various San Juan-Chama Project contractors to stabilize flows in a critical reach of the Rio Grande to meet the needs of irrigators and preserve habitat for the silvery minnow. Reclamation leased approximately 10,871 acre-feet of water from San Juan-Chama Project contractors in 2020.

4. Strawberry High Line Canal Company, Strawberry Valley Project; Utah: The Strawberry High Line Canal Company has requested to allow for the carriage of non-project water held by McMullin Orchards in the High Line Canal.

5. Eden Valley IDD, Eden Project, Wyoming: The Eden Valley IDD proposes to raise the level of Big Sandy Dam to fully perfect its water rights. An agreement will be necessary to obtain the authorization to modify Federal facilities.

6. South Cache Water Users Association, Hyrum Project, Utah: Problems with the spillway at Hyrum Dam require the construction of a new spillway under the SOD Act, as amended. A repayment contract is necessary to recover 15 percent of the construction costs in accordance with the SOD Act.

7. Pojoaque Valley ID, San Juan-Chama Project, New Mexico: An amendment to the repayment contract to reflect the changed allocations of the Aamodt Litigation Settlement Act (Title VI of the Claims Resolution Act of 2010, Public Law 111-291, December 8, 2010, and Article 7 of the Settlement Agreement dated April 19, 2012) is currently under review by the Pojoaque Valley ID board.

8. Dolores Water Conservancy District, Dolores Project, Colorado: The District has requested a water service contract for 1,402 acre-feet of newly identified project water for irrigation. The proposed water service contract will provide 417 acre-feet of project water for irrigation of the Ute Enterprise and 985 acre-feet for use by the District's full-service irrigators.

9. State of Wyoming, Seedskadee Project; Wyoming. The Wyoming Water Development Commission is interested in purchasing an additional 65,000 acre-feet of M&I water from Fontenelle Reservoir. Reclamation and the State of Wyoming are pursuing entering into a Contributed Funds Act agreement which allows the State to advance funds to Reclamation associated with activities involved in contracting for remaining available M&I water as specified in Section 4310 of Public Law 115-270.

10. Ute Indian Tribe of the Uinta and Ouray Reservation, CUP, Utah: The Ute Indian Tribe of the Uinta and Ouray Reservation has requested the use of excess capacity in the Strawberry Aqueduct and Collection System, as authorized in the CUP Completion Act legislation.

11. Ute Indian Tribe of the Uinta and Ouray Reservation; Flaming Gorge Unit, CRSP; Utah: As part of discussions on settlement of a potential compact, the Ute Indian Tribe of the Uinta and Ouray Reservation has indicated interest in storage of its potential water right in Flaming Gorge Reservoir.

12. State of Utah; Flaming Gorge Unit, CRSP; Utah: The State of Utah has requested contracts that will allow the full development and use of the CUP Ultimate Phase water right of 158,000 acre-feet of depletion, which was previously assigned to the State of Utah. A contract for 72,641 acre-feet was executed March 20, 2019. A contract for the remaining 86,249 acre-feet has been negotiated and is awaiting completion of NEPA activities.

13. Weber Basin Water Conservancy District, Weber Basin Project, Utah: The District has requested permission to install a low-flow hydro-electric generation plant at Causey Reservoir to take advantage of winter releases. This will likely be accomplished through a supplemental O&M contract.

14. Sanpete Water Conservancy District, Gooseberry Project, Utah: The District has requested Reclamation convey back its reversionary interest in a 1975 Water Right Assignment Contract with the District.

15. Uintah Water Conservancy District; Vernal Unit, CUP; Utah: The District has requested to amend carriage contract No. 15-WC-40-587 to include an M&I component into the 35,000 acre-feet ceiling.

16. Uintah Water Conservancy District; Vernal Unit, CUP; Utah: The District has requested to amend repayment contract No. 14-06-400-778 to convert the M&I water service provisions to repayment provisions.

17. Provo River Project, Utah: The Metropolitan Water District of Salt Lake and Sandy has requested a long-term contract with the United States and the Provo River Water Users Association to store up to 4,000 acre-feet of non-project water in Deer Creek Reservoir, on a space-available basis.

18. Ute Mountain Ute Tribe, Animas-La Plata Project, Colorado: Ute Mountain Ute Tribe has requested a water delivery contract for 16,525 acre-feet of M&I water; contract terms to be consistent with the Colorado Ute Settlement Act Amendments of 2000 (Title III of Pub. L. 106-554).

19. Navajo-Gallup Water Supply Project, New Mexico: Reclamation continues negotiations on an OM&R transfer contract with the Navajo Tribal Utility Authority pursuant to Public Law 111-11, Section 10602(f) which transfers responsibilities to carry out the OM&R of transferred works of the Project; ensures the continuation of the intended benefits of the Project; distribution of water; and sets forth the allocation and payment of annual OM&R costs of the Project.

20. Animas-La Plata Project, Colorado-New Mexico: (a) Navajo Nation title transfer agreement for the Navajo Nation Municipal Pipeline for facilities and land outside the corporate boundaries of the City of Farmington, New Mexico; contract terms to be consistent with the Colorado Ute Settlement Act Amendments of 2000 (Title III of Pub. L. 106-554) and the Northwestern New Mexico Rural Water Projects Act (Title X of Pub. L. 111-11); (b) City of Farmington, New Mexico, title transfer agreement for the Navajo Nation Municipal Pipeline for facilities and land inside the corporate boundaries of the City of Farmington; New Mexico, contract terms to be consistent with the Colorado Ute Settlement Act Amendments of 2000 (Title III of Pub. L. 106-554) and the Northwestern New Mexico Rural Water Projects Act (Title X of Pub. L. 111-11); and (c) Operations agreement among the United States, Navajo Nation, and City of Farmington for the Navajo Nation Municipal Pipeline pursuant to Pub. L. 111-11, Section 10605(b)(1) that sets forth any terms and conditions that secures an operations protocol for the M&I water supply.

21. Navajo Tribal Utility Authority, Navajo-Gallup Water Supply Project, New Mexico: Reclamation is entering negotiations with the Navajo Tribal Utility Authority to provide payment for OM&R costs for use of Federal facilities pursuant to Public Law 111-11, Section 10602(g).

22. City of Page, Arizona; Glen Canyon Unit, CRSP; Arizona: Request for a long-term contract for 975 acre-feet of water for municipal purposes.

23. Middle Rio Grande Water Conservancy District; El Vado Dam; Middle Rio Grande Project; New Mexico: SOD work is anticipated to begin in 2021 involving repairs to the steel faceplate and spillways. A repayment contract with the District for their required 15 percent share of costs will be entered into for this work.

24. Bostwick Park Water Conservancy District, Bostwick Park Project, Colorado: Preliminary lease and funding agreement for development of the lease of power privilege for hydropower development on the Silver Jack Dam Bypass Pipeline. The purpose of this agreement is to receive funding from the district for Reclamation's assistance in the development of the lease of power privilege and identify timelines for the process.

25. Title transfer agreements; Arizona, Colorado, New Mexico, Texas, Utah, and Wyoming: Potential title transfers agreements pursuant to the John D. Dingell, Jr. Conservation, Management, and Recreation Act of March 12, 2019 (Pub. L. 116-9).

26. Albuquerque Bernalillo County Water Utility Authority, San Juan-Chama Project, New Mexico: Enter into a contract to store up to 50,000 acre-feet of Project water in Elephant Butte Reservoir for a 30-year maximum term under the authority of the Act of December 29, 1981; Public Law 97-140; 95 Stat. 1717

Discontinued Contract Actions

1. (7) Newton Water Users Association, Newton Project; Utah: The Utah Division of Wildlife Resources desires to install a fish screen on the outlet works of Newton Dam. This requires an agreement to approve modification to Federal Reclamation facilities.

2. (20) Ogden River Water Users Association, Ogden River Project, Utah: The Ogden River Water Users Association is requesting to convert 44,175 acre-feet of irrigation water from Pine View Reservoir to be available for M&I purposes.

Completed Contract Actions

1. (6). Tri-County Water Conservancy District, Dallas Creek Project, Colorado: A contract under the Upper Colorado Recovery Program to construct and transfer O&M of a fish barrier at Ridgway Dam. The State of Colorado, Colorado Parks and Wildlife Department will also be a party to the contract. Contract executed on December 3, 2020.

2. (26) Albuquerque Bernalillo County Water Utility Authority, San Juan-Chama Project, New Mexico: Enter into a contract to store up to 50,000 acre-feet of Project water in Elephant Butte Reservoir for a 30-year maximum term under the authority of the Act of December 29, 1981; Public Law 97-140; 95 Stat. 1717. Contract executed on October 28, 2020.

LOWER COLORADO BASIN—INTERIOR REGION 8: Bureau of Reclamation, P.O. Box 61470 (Nevada Highway and Park Street), Boulder City, Nevada 89006-1470, telephone 702-293-8192.

1. Milton and Jean Phillips, BCP, Arizona: Develop a Colorado River water delivery contract for 60 acre-feet of Colorado River water per year as recommended by the Arizona Department of Water Resources.

2. Gila Project Works, Gila Project, Arizona: Perform title transfer of facilities and certain lands in the Wellton-Mohawk Division from the United States to the Wellton-Mohawk IDD.

3. Ogram Boys Enterprises, Inc., BCP, Arizona: Revise Exhibit A of the contract to change the contract service area and points of diversion/delivery.

4. Gold Dome Mining Corporation and Wellton-Mohawk IDD, Gila Project, Arizona: Terminate contract No. 0-07-30-W0250 pursuant to Articles 11(d) and 11(e).

5. Estates of Anna R. Roy and Edward P. Roy, Gila Project, Arizona: Terminate contract No. 6-07-30-W0124 pursuant to Article 9(c).

6. Present Perfected Right 30 (Stephenson), BCP, California: Offer contracts for delivery of Colorado River water to holders of miscellaneous present perfected rights as described in the 2006 Consolidated Decree in Arizona v. California, 547 U.S. 150.

7. Wilbur G. and Carrol D. Schroeder, BCP, California: Terminate contract No. 6-07-30-W0137 for delivery of Colorado River water under Present Perfected Right No. 38 as described in the 2006 Consolidated Decree in Arizona v. California, 547 U.S. 150.

8. Sunmor Properties, Inc., BCP, California: Terminate contract No. 6-07-30-W0139 for delivery of Colorado River water under Present Perfected Right No. 38 as described in the 2006 Consolidated Decree in Arizona v. California, 547 U.S. 150.

9. Ronnie and Linda Herndon, BCP, California: Terminate contract No. 6-07-30-W0138 for delivery of Colorado River water under Present Perfected Right No. 38 as described in the 2006 Consolidated Decree in Arizona v. California, 547 U.S. 150.

10. Jack D. Brown, BCP, California: Terminate contract No. 7-07-30-W0149 for delivery of Colorado River water under Present Perfected Right No. 38 as described in the 2006 Consolidated Decree in Arizona v. California, 547 U.S. 150.

11. Palms River Resort, Inc., BCP, California: Offer a contract to the current landowner for delivery of Colorado River water under Present Perfected Right No. 38 as described in the 2006 Consolidated Decree in Arizona v. California, 547 U.S. 150.

12. Ak-Chin Indian Community and Del Webb Corporation, CAP, Arizona: Execute a First Amendment to (Restated) Option and Lease among the Ak-Chin Indian Community, the Del Webb Corporation, and United States of America.

13. Brooke Water LLC and EPCOR Water Arizona Inc., BCP, Arizona: Enter into an assignment of Brooke's Colorado River water delivery contract to EPCOR, and a new contract with EPCOR that will supersede and replace its existing Colorado River water delivery contract.

14. San Carlos Apache Tribe and the Town of Gilbert, CAP, Arizona: Execute a CAP water lease for the San Carlos Apache Tribe to lease 11,446 acre-feet of its CAP water to the Town of Gilbert during calendar year 2021.

15. San Carlos Apache Tribe and Pascua Yaqui Tribe, CAP, Arizona: Execute a CAP water lease for the San Carlos Apache Tribe to lease 1,720 acre-feet of its CAP water to Pascua Yaqui Tribe during calendar year 2021.

16. San Carlos Apache Tribe and Freeport Minerals Corporation, CAP, Arizona: Execute a CAP water lease for the San Carlos Apache Tribe to lease 11,500 acre-feet of its CAP water to Freeport Minerals Corporation during calendar year 2021.

Completed Contract Action

1. (19) City of Yuma, BCP, Arizona: Extend the term of the contract with the City for delivery of its Colorado River water entitlement to October 1, 2027, through Amendment No. 6. Contract executed on October 7, 2020.

COLUMBIA-PACIFIC NORTHWEST—INTERIOR REGION 9: Bureau of Reclamation, 1150 North Curtis Road, Suite 100, Boise, Idaho 83706-1234, telephone 208-378-5344.

1. Irrigation, M&I, and Miscellaneous Water Users; Idaho, Oregon, Washington, Montana, and Wyoming: Temporary or interim irrigation and M&I water service, water storage, water right settlement, exchange, miscellaneous use, or water replacement contracts to provide up to 10,000 acre-feet of water annually for terms up to 5 years; long-term contracts for similar service for up to 1,000 acre-feet of water annually.

2. Rogue River Basin Water Users, Rogue River Basin Project, Oregon: Water service contracts; $8 per acre-foot per annum.

3. Willamette Basin Water Users, Willamette Basin Project, Oregon: Water service contracts; $8 per acre-foot per annum.

4. Pioneer Ditch Company, Boise Project, Idaho; Clark and Edwards Canal and Irrigation Company, Enterprise Canal Company, Ltd., Lenroot Canal Company, Liberty Park Canal Company, Poplar ID, all in the Minidoka Project, Idaho; Juniper Flat District Improvement Company, Wapinitia Project, Oregon; and Whitestone Reclamation District, Chief Joseph Dam Project, Washington: Amendatory repayment and water service contracts; purpose is to conform to the RRA.

5. Nine water user entities of the Arrowrock Division, Boise Project, Idaho: Repayment agreements with districts with spaceholder contracts for repayment, per legislation, of the reimbursable share of costs to rehabilitate Arrowrock Dam Outlet Gates under the O&M program.

6. Three irrigation water user entities, Rogue River Basin Project, Oregon: Long-term contracts for exchange of water service with three entities for the provision of up to 292 acre-feet of stored water from Applegate Reservoir (a USACE project) for irrigation use in exchange for the transfer of out-of-stream water rights from the Little Applegate River to instream flow rights with the State of Oregon for instream flow use.

7. Conagra Foods Lamb Weston, Inc., Columbia Basin Project, Washington: Miscellaneous purposes water service contract providing for the delivery of up to 1,500 acre-feet of water from the Scooteney Wasteway for effluent management.

8. Benton ID, Yakima Project, Washington: Replacement contract to, among other things, withdraw Benton ID from the Sunnyside Division Board of Control; provide for direct payment of Benton ID's share of total operation, maintenance, repair, and replacement costs incurred by the United States in operation of storage division; and establish Benton ID responsibility for operation, maintenance, repair, and replacement for irrigation distribution system.

9. Burley and Minidoka IDs, Minidoka Project, Idaho: Supplemental and amendatory contracts to transfer the O&M of the Main South Side Canal Headworks to Burley ID and transfer the O&M of the Main North Side Canal Headworks to Minidoka ID.

10. Clean Water Services and Tualatin Valley ID, Tualatin Project, Oregon: Long-term water service contract that provides for the District to allow Clean Water Services to beneficially use up to 6,000 acre-feet annually of stored water for water quality improvement.

11. Stanfield ID, Umatilla Basin Project, Oregon: A short-term water service contract to provide for the use of conjunctive use water, if needed, for the purposes of pre-saturation or for such use in October to extend their irrigation season.

12. Falls ID, Michaud Flats Project, Idaho: Amendment to contract No. 14-06-100-851 to authorize the District to participate in State water rental pool.

13. Roza ID, Yakima Project, Washington: Contract for use of water in dead space of Kachess Reservoir and construction of a pumping plant.

14. Quincy-Columbia Basin ID, Columbia Basin Project, Washington: Long-term contract to renew master water service contract No. 14-06-100-9166, as supplemented, to authorize the District to deliver project water to up to 10,000 First Phase Continuation Acres located within the District, and to deliver additional project water to land irrigated under the District's repayment contract during the peak period of irrigation water use annually.

15. Windy River LLC, Umatilla Project, Oregon: Contract pursuant to the Warren Act for use project facilities.

16. Water user entities responsible for repayment of reimbursable project construction costs in Idaho, Washington, Oregon, Montana, and Wyoming: Contracts for conversion or prepayment executed pursuant to the Water Infrastructure Improvements for the Nation Act, Public Law 114-322, Sec. 4011(a-d).

17. Title transfer agreements; Idaho, Washington, Oregon, Montana, and Wyoming: Potential title transfers agreements pursuant to the John D. Dingell, Jr. Conservation, Management, and Recreation Act of March 12, 2019 (Pub. L. 116-9).

CALIFORNIA-GREAT BASIN—INTERIOR REGION 10: Bureau of Reclamation, 2800 Cottage Way, Sacramento, California 95825-1898, telephone 916-978-5250.

1. Irrigation water districts, individual irrigators, M&I and miscellaneous water users; California, Nevada, and Oregon: Short-term (up to 5 years)—Water service contracts for available project water for irrigation, M&I, or fish and wildlife purposes providing up to 10,000 acre-feet of water annually; Warren Act contracts for use of excess capacity in project facilities for quantities that could exceed 10,000 acre-feet annually; and contracts for similar service for up to 1,000 acre-feet annually.

2. State of California, Department of Water Resources, CVP, California: Temporary or short-term conveyance agreements for various purposes.

3. Contractors from the Delta Division, Cross Valley Canal, and West San Joaquin Division; CVP; California: Renewal of 10 interim and long-term water service contracts; water quantities for these contracts total in excess of 148,000 acre-feet. These contract actions will be accomplished through long-term renewal contracts pursuant to Public Law 102-575. Prior to completion of negotiation of long-term renewal contracts, existing interim renewal water service contracts may be renewed through successive interim renewal of contracts.

4. Redwood Valley County WD, SRPA, California: Restructuring the repayment schedule pursuant to Public Law 100-516.

5. Sutter Extension WD, Delano-Earlimart ID, Pixley ID, the State of California Department of Water Resources, and the State of California Department of Fish and Wildlife; CVP; California: Pursuant to Public Law 102-575, agreements with non-Federal entities for the purpose of providing funding for Central Valley Project Improvement Act refuge water conveyance and/or facilities improvement construction to deliver water for certain Federal wildlife refuges, State wildlife areas, and private wetlands.

6. CVP Service Area, California: Temporary water acquisition agreements for purchase of 5,000 to 200,000 acre-feet of water for fish and wildlife purposes as authorized by Public Law 102-575 for terms of up to 5 years.

7. Horsefly, Klamath, Langell Valley, and Tulelake IDs; Klamath Project; Oregon: Repayment contracts for SOD work on Clear Lake Dam. These districts will share in repayment of costs, and each district will have a separate contract.

8. Irrigation water districts, individual irrigators, M&I, and miscellaneous water users; CVP; California: Execution of long-term Warren Act contracts (up to 40 years) with various entities for conveyance of non-project water in the CVP.

9. Tuolumne Utilities District (formerly Tuolumne Regional WD), CVP, California: Long-term water service contract for up to 9,000 acre-feet from New Melones Reservoir, and possibly a long-term contract for storage of non-project water in New Melones Reservoir.

10. Pershing County Water Conservation District, Pershing County, and Lander County; Humboldt Project; Nevada: Title transfer of lands and features of the Humboldt Project.

11. San Luis WD, CVP, California: Proposed partial assignment of 4,604 acre-feet of the District's CVP supply to Santa Nella County WD for M&I use.

12. Placer County Water Agency, CVP, California: Proposed exchange agreement under section 14 of the 1939 Act to exchange up to 71,000 acre-feet annually of the Agency's American River Middle Fork Project water for use by Reclamation, for a like amount of CVP water from the Sacramento River for use by the Agency.

13. Irrigation contractors, Klamath Project, Oregon: Amendment of repayment contracts or negotiation of new contracts to allow for recovery of additional capital costs.

14. Orland Unit Water User's Association, Orland Project, California: Repayment contract for the SOD costs assigned to the irrigation of Stony Gorge Dam.

15. City of Santa Barbara, Cachuma Project, California: Execution of a temporary contract and a long-term Warren Act contract with the City for conveyance of non-project water in Cachuma Project facilities.

16. Non-federal Operating Entities and Contractors with O&M responsibilities for transferred works; California, Nevada, and Oregon: Contracts for extraordinary maintenance and replacement funded pursuant to Subtitle G of Public Law 111-11.

17. Cachuma Operation and Maintenance Board, Cachuma Project, California: Amendment to SOD contract No. 01-WC-20-2030 to provide for increased SOD costs associated with Bradbury Dam.

18. State of California, Department of Water Resources; Cross Valley Contractors; CVP; California: Three-party conveyance agreement for conveyance of Cross Valley Contractors' CVP water supplies available pursuant to long-term water service contracts.

19. Westlands WD, CVP, California: Negotiation and execution of a long-term repayment contract to provide reimbursement of costs related to the construction of drainage facilities. This action is being undertaken to satisfy the Federal Government's obligation to provide drainage service to lands within the San Luis Unit of the CVP including the Westlands WD service area.

20. San Luis WD, Meyers Farms Family Trust, and Reclamation; CVP; California: Revision of an existing contract among San Luis WD, Meyers Farms Family Trust, and Reclamation providing for an increase in the exchange of water from 6,316 to 10,526 acre-feet annually and an increase in the storage capacity of the bank to 60,000 acre-feet.

21. Contra Costa WD, CVP, California: Amendment to an existing O&M agreement to transfer O&M of the Contra Costa Rock Slough Fish Screen to the Contra Costa WD. Initial construction funding provided through ARRA.

22. Irrigation water districts, individual irrigators and M&I water users, CVP, California: Temporary water service contracts for terms not to exceed 1 year for up to 100,000 acre-feet of surplus supplies of CVP water resulting from an unusually large water supply, not otherwise storable for project purposes, or from infrequent and otherwise unmanaged flood flows of short duration.

23. City of Redding, CVP, California: Proposed partial assignment of 30 acre-feet of the City of Redding's CVP water supply to the City of Shasta Lake for M&I use.

24. Sacramento River Division, CVP, California: Administrative assignments of various Sacramento River Settlement Contracts.

25. California Department of Fish and Game, CVP, California: To extend the term of and amend the existing water service contract for the Department's San Joaquin Fish Hatchery to allow an increase from 35 to 60 cubic feet per second of continuous

26. PacifiCorp, Klamath Project, Oregon and California: Transfer of O&M of Link River Dam and associated facilities. Contract will allow for the continued O&M by PacifiCorp.

27. Tulelake ID, Klamath Project, Oregon and California: Transfer of O&M of

28. U.S. Fish and Wildlife Service and Tulelake ID; Klamath Project; Oregon and California: Water service contract for deliveries to Lower Klamath National Wildlife Refuge, including transfer of O&M responsibilities for the P Canal system.

29. Tulelake ID, Klamath Project, Oregon and California: Amendment of repayment contract to eliminate reimbursement for P Canal O&M costs.

30. Placer County Water Agency and East Bay Municipal Utility District, CVP, California: Long-term Warren Act contracts for up to 47,000 acre-feet of water annually with the Agency for storage and conveyance in Folsom Reservoir, and a contract with the District for conveyance of non-project water through Folsom South Canal.

31. Gray Lodge Wildlife Area, CVP, California: Reimbursement agreement between the California Department of Fish and Wildlife and Reclamation for groundwater pumping costs. Groundwater will provide a portion of Gray Lodge Wildlife Area's Central Valley Improvement Act Level 4 water supplies. This action is taken pursuant to Public Law 102-575, Title 34, Section 3406(d)(1, 2 and 5), to meet full Level 4 water needs of the Gray Lodge Wildlife Area.

32. State of Nevada, Newlands Project, Nevada: Title transfer of lands and features of Carson Lake and Pasture.

33. Washoe County Water Conservation District, Truckee Storage Project, Nevada: Repayment contract for costs associated with SOD work on Boca Dam.

34. Santa Barbara County Water Agency, Cachuma Project, California: Negotiation and execution of a long-term water service contract.

35. Cachuma Operations and Maintenance Board, Cachuma Project, California: Negotiation and execution of an O&M contract.

36. State of California, Department of Water Resources; CVP; California: Negotiation of a multi-year wheeling agreement with the State of California, Department of Water Resources providing for the conveyance and delivery of CVP water through the State of California's water project facilities to Byron-Bethany ID (Musco Family Olive Company), Del Puerto WD, and the San Joaquin Valley National Cemetery.

37. Water user entities responsible for repayment of reimbursable project construction costs in California, Nevada, and Oregon: Contracts for conversion or prepayment executed pursuant to the Water Infrastructure Improvements for the Nation Act, Public Law 114-322, Sec. 4011 (a-d).

38. Contra Costa Water District, CVP, California: Title transfer of lands and features of the Contra Costa Canal System of the CVP.

39. Truckee-Carson ID, Newlands Project, Nevada: Negotiation and execution of an OM&R transfer agreement.

40. Tehama-Colusa Canal Authority, CVP, California: Renewal of OM&R contract.

41. Title transfer agreements; California, Nevada, and Oregon: Potential title transfers agreements pursuant to the John D. Dingell, Jr. Conservation, Management, and Recreation Act of March 12, 2019 (Pub. L. 116-9).

42. Shasta County Water Agency, CVP, California: Proposed partial assignment of 50 acre-feet of the Shasta County Water Agency's CVP water supply to the City of Shasta Lake for M&I use.

43. Friant Water Authority, CVP, California: Negotiation and execution of a repayment contract for Friant Kern Canal Middle Reach Capacity Correction Project.

Completed Contract Actions

1. (9) Madera-Chowchilla Water and Power Authority, CVP, California: Agreement to transfer the OM&R and certain financial and administrative activities related to the Madera Canal and associated works. Contract executed on January 22, 2021.

2. (29) Santa Clara Valley WD (now called Valley Water), CVP, California: Second amendment to Santa Clara Valley WD's water service contract to add CVP-wide form of contract language providing for mutually agreed upon point or points of delivery. Contract executed on December 14, 2020.

3. (32) Fresno County Waterworks No. 18; Friant Division, CVP; California: Execution of an agreement to provide for the O&M of select Federal facilities by Fresno County Waterworks No. 18. Contract executed on September 11, 2018.

5. (50) Friant Water Authority, Friant Division, CVP, California: Renewal of OM&R contract. Contract executed on October 5, 2020.

Christopher Beardsley,
Director, Policy and Programs.

[FR Doc. 2021-06512 Filed 3-29-21; 8:45 am]

BILLING CODE 4332-90-P